DEPARTMENT OF THE INTERIOR

Fish and Wildlife Service

Wheeler National Wildlife Refuge Complex

AGENCY: Fish and Wildlife Service, Department of the Interior.

ACTION: Notice of intent to prepare a Comprehensive Conservation Plan and Environmental Assessment for Wheeler National Wildlife Refuge Complex in Lauderdale, Limestone, Jackson, Madison and Morgan Counties, Alabama.

SUMMARY: This notice advises the public that the Fish and Wildlife Service, Southeast Region, intends to gather information necessary to prepare a Comprehensive Conservation Plan and Environmental Assessment for the Wheeler National Wildlife Refuge Complex, pursuant to the National Environmental Policy Act and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: An open house style meeting will be held during the scoping phase of the comprehensive conservation plan development process. Special mailings, newspaper articles, and other media announcements will be used to inform the public and State and local government agencies of the dates and opportunities for input throughout the planning process.

ADDRESSES: Address comments, questions, and requests for more information to John Beck, Refuge Planner, Fish and Wildlife Service, 2700 Refuge Headquarters Road, Decatur, Alabama 35603; telephone: (256) 353-7243; Fax: (256) 340-9728; e-mail: john_beck@fws.gov. To ensure consideration, written comments must be received no later than September 6, 2005. Our practice is to make comments, including names and addresses of respondents, available for public review during regular business hours. Individual respondents may request that we withhold their home address from the record, which we will honor to the extent allowable by law.

SUPPLEMENTARY INFORMATION: Wheeler National Wildlife Refuge, in the Tennessee River Valley of northern Alabama, was established by executive order on July 7, 1938. The refuge is situated within the middle third of the Tennessee Valley Authority's Wheeler Reservoir on land purchased in 1934 and 1935 by the Authority to serve as a buffer strip around the reservoir, which was impounded in 1936. The refuge contains land within Morgan, Limestone, and Madison Counties, and is in close proximity to the cities of Huntsville and Decatur, Alabama. The refuge consists of approximately 35,000 acres, including 19,500 acres of land and 15,500 acres of water. It is well developed with more than 100 miles of graveled roads, 2,500 acres of managed wetlands, a modern Headquarters Complex with a large Visitor Center and a Waterfowl Observation Building. Public use is heavy and approximately 700,000 visitors are reported annually.

The primary purpose of the refuge is to provide habitat, food, and shelter for migratory waterfowl and other wildlife. This refuge supports Alabama's only significant concentration of wintering Canada geese. It also serves as winter habitat for the State's largest duck population. It was the first national wildlife refuge placed on a multipurpose reservoir and has supported up to 60,000 geese and nearly 100,000 ducks, although peaks until 1990 were nearer 30,000 geese and 60,000 ducks. Since 1990, winter goose populations have dropped significantly; below 15,000 from 1990-1995 and about 2,500-5,500 in the last few years. Snow geese are now the most prominent competent of the winter goose population, peaking near 1,500-3,200 in recent years. The refuge supports interesting flora, a bird list consisting of 288 species, 47 species of mammals, 115 species of fish and a wide variety (74 species) of reptiles and amphibians. Furthermore, the refuge is home to 10 federally protected endangered species.

Wheeler Refuge has three satellite refuges, all established to protect endangered species. These are: Sauta Cave (formerly Blowing Wind Cave) National Wildlife Refuge, near Scottsboro, Jackson County, Alabama; Fern Cave National Wildlife Refuge, near Paint Rock, Jackson County, Alabama; and Key Cave National Wildlife Refuge near Florence, Lauderdale County, Alabama. All together, these refuges comprise the Wheeler National Wildlife Refuge Complex.

Sauta Cave Refuge consists of 264 acres and was purchased in 1978 to provide protection for the federally endangered gray bat (Myotis grisescens) and the Indiana bat (Myotis sodalis) and their critical habitat. The cave provides a summer roosting site for about 200,000-300,000 gray bats and a winter hibernaculum for both the gray and Indiana bat. There are two entrances into the cave on the refuge but they are closed to the public.

As is the case with many large caves, rare and unique species occur in Sauta Cave. As a result, the Alabama Natural Heritage Program ranks the cave's biodiversity as a site of very high significance. In addition to the rare fauna within the cave, the federally endangered Price's potato bean (Apios priceana) occurs on the refuge. All 264 acres of habitat outside of the cave are predominately hardwood forest.

Fern Cave Refuge was purchased in 1981 to provide protection for the federally endangered gray and Indiana bats. It consists of 199 cares of forested hillside underlain by a massive cave with many stalactite- and stalagmite-filled rooms. The cave has five hidden entrances with four occuring on the refuge. The refuge contains the largest wintering colony of gray bats in the United States with more than one million bats hibernating there in the winter. Bat experts also think that as many as one million Indiana bats may be using the cave.

Access is extremely difficult and has been described as a vertical and horizontal maze by expert cavers. Horizontal sections of the cave are known to be more than 15 miles long and vertical drops of 450 feet are found within. Spectacular features, including unrivaled formations, important paleological and archaeological finds, and diverse cave fauna, have contributed to Fern Cave being described as the most spectacular cave in the United States. Additionally, the endangered American Hart's-tongue fern (Phyllitis scolopendrium) is found on the refuge.

Key Cave Refuge, about 5 miles southwest of Florence, Alabama, was established in 1997 to ensure the biological integrity of Key Cave, Collier Cave, and the aquifer common to both. Key Cave has been designated as critical habitat for the endangered Alabama cavefish (Speoplatyrhinus poulsoni) and as a priority one maternity cave for the endangered gray bat. Collier Cave, approximately 1.5 miles upstream from Key Cave and within the acquisition boundary, is important to both species as potential habitat. Both caves are on the northern shore of Pickwick Lake in a limestone karst area that contains numerous sinkholes and several underground cave systems. the area's sinkholes are an integral component of groundwater recharge to the caves. The area directly north of Key Cave was identified as a potential high hazard risk area for groundwater recharge and this is where the 1,060-acre refuge was established.

Two species of blind crayfish (Procambarus pecki and Cambarus jonesi) also inhabit Key Cave. Several bird species that are of management concern also use the refuge's grasslands. These species include grasshopper sparrows, dickcissels, northern harriers, short-eared owls, loggerhead shrikes, and northern bobwhites.

Authority: This notice is published under the authority of the National Wildlife Refuge System Improvement Act of 1977, Public Law 105-57.

Dated: June 17, 2005.
Cynthia K. Dohner,
Acting Regional Director.

[FR Doc. 05-14382 Filed 7-20-05; 8:45 am]

BILLING CODE 4310-55-M